DEPARTMENT OF HEALTH AND HUMAN SERVICES

National Institutes of Health

Submission for OMB Review; 30-Day Comment Request; Office of Programs to Enhance Neuroscience (OPEN) Workforce Tracker (National Institute of Neurological Disorders and Stroke)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Cara Long, Health Science Policy Analyst, Office of Science Policy and Planning, NINDS, NIH, 31 Center Drive, Building 31, Room 8A52, Bethesda, MD 20892, or call non-toll-free number (301) 496-9271, or email your request, including your address to: cara.long@nih.gov.

SUPPLEMENTARY INFORMATION: This proposed information collection was previously published in the Federal Register on November 3, 2023, page 75606-75607 (88 FR 75606) and allowed 60 days for public comment. No public comments were received. The purpose of this notice is to allow an additional 30 days for public comment.

The National Institute of Neurological Disorders and Stroke (NINDS), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: The OPEN Workforce Tracker, 0925-New, National Institute of Neurological Disorders and Stroke (NINDS), National Institutes of Health (NIH).

Need and Use of Information Collection: The OPEN Workforce Tracker database will gather and store information on neuroscience research trainees who have received NINDS support. The NINDS OPEN will use this information to analyze diversity-targeted career development program outcomes, to make improvements to these programs, and to build and foster a user-friendly community that will allow NINDS to communicate information and opportunities to current and former awardees, including those from groups that may be underrepresented and underserved within federal programs and awards. The OPEN Workforce Tracker will help NINDS collect structured information that is specific to the requirements of NINDS programs and that reflects outcome metrics used to assess program effectiveness. This information includes career stage, position, publications, degrees, and information related to NIH funding and external funding received, as well as protected class identifiers (race and ethnicity, sexual identification, gender, and disability) important for understanding program participation and outcomes across diverse groups.

The tracker follows minimization principles: it only collects relevant and necessary information to accomplish the purposes of program evaluation and communication, and it will interface with and pull in relevant information from existing NIH database systems database systems to minimize reporting burden. The database grants NINDS awardees the right to access their data held by NINDS and the ability to copy and correct any information errors. The information collection is consistent with NINDS's mission and mandate to conduct and support training in neuroscience (Public Health Service Act, 42 U.S.C. 285(j)). Also, this database aligns with the NIH-wide strategic plan to advance diversity, equity, inclusion, and accessibility (DEIA) through research and support analyses to identify and remove potential barriers to the implementation and expansion of promising and effective DEIA practices, policies, and procedures (Objective 3).

OMB approval is requested for 3 years. There are no costs to respondents other than their time. The total estimated annualized burden hours are 167.

Estimated Annualized Burden Hours
Form name | Type of respondent | Number of respondents | Number of responses per respondent | Average burden per response (in hours) | Total annual burden hour
Trainee database | Individuals (“trainees”) | 500 | 1 | 20/60 | 167
Total |  |  | 500 |  | 167

Dated: January 10, 2024.
Paul A. Scott,
Project Clearance Liaison, National Institute of Neurological Disorders and Stroke, National Institutes of Health.

[FR Doc. 2024-00750 Filed 1-16-24; 8:45 am]

BILLING CODE 4140-01-P